DEPARTMENT OF ENERGY

National Nuclear Security Administration

Notice of Availability of the Draft Supplemental Environmental Impact Statement for the Nuclear Facility Portion of the Chemistry and Metallurgy Research Building Replacement Project at Los Alamos National Laboratory, Los Alamos, NM

AGENCY: National Nuclear Security Administration, U.S. Department of Energy.

ACTION: Notice of availability and public hearings.

SUMMARY: The National Nuclear Security Administration (NNSA) announces the availability of the Draft Supplemental Environmental Impact Statement for the Nuclear Facility Portion of the Chemistry and Metallurgy Research Building Replacement Project at Los Alamos National Laboratory, Los Alamos, New Mexico (Draft CMRR-NF SEIS) (DOE/EIS-0350-S1), and the dates and locations for public hearings to receive comments on the Draft CMRR-NF SEIS. The Draft CMRR-NF SEIS analyzes the potential environmental impacts of alternatives for constructing and operating the nuclear facility (NF) portion of the Chemistry and Metallurgy Research Building Replacement (CMRR) Project. The CMRR Project was first analyzed in the 2003 Final Environmental Impact Statement for the Proposed Chemistry and Metallurgy Research Building Replacement Project at Los Alamos National Laboratory, Los Alamos, NM (the CMRR EIS) (DOE/EIS-0350), and NNSA issued a Record of Decision for the CMRR Project in February 2004 (68 FR 6420) announcing its decision to construct and operate a two building CMRR facility within Technical Area-55 (TA-55) at Los Alamos National Laboratory (LANL) in order to meet its need to sustain mission-critical specialized nuclear chemistry and metallurgy capabilities at LANL in a safe, secure and environmentally sound manner. Since that time, NNSA has constructed one of the two buildings for the CMRR Project (the Radiological Laboratory/Utility/Office Building, also called the RLUOB), and has engaged in project planning and design processes for the second building, the CMRR-NF. The planning and design processes for the CMRR-NF have identified the need for various changes to the original design for the structure and additional project elements not envisioned in the 2003 NEPA analyses. These proposed changes, identified subsequent to the ROD, are the subject of the CMRR-NF SEIS analyses.

The Draft CMRR-NF SEIS considers a No Action Alternative (the 2004 CMRR-NF), and two action alternatives (the Modified CMRR-NF Alternative, and the Continued Use of CMR Building Alternative). Under the No Action Alternative, NNSA analyzes construction and operation of the CMRR-NF as it was originally envisioned in 2004, although it has been determined that the structural design in this alternative would not meet current nuclear facility design safety requirements. Thus, this alternative no longer meets NNSA's purpose and need. The Modified CMRR-NF Alternative incorporates currently identified construction and operational requirements for the CMRR-NF, and meets NNSA's purpose and need. The Continued Use of CMR Building Alternative analyzes continued use of the CMR Building for as long as it may be safe to do so, together with the RLUOB, although this alternative would not fully meet NNSA's purpose and need. The Modified CMRR Alternative is NNSA's preferred alternative.

DATES: NNSA invites stakeholders and members of the public to submit comments on the Draft CMRR-NF SEIS during the public comment period, which starts with the publication of the Environmental Protection Agency's Notice of Availability in the Federal Register and extends for 45 days until June 13, 2011. NNSA will consider comments received after this date to the extent practicable as it prepares the Final CMRR-NF SEIS.

NNSA will hold three public hearings on the Draft CMRR-NF SEIS at the following dates, times, and locations:

• Tuesday, May 24, 2011, at 5 p.m. to 9 p.m., Holiday Inn Express, 60 Entrada Drive, Los Alamos, NM.

• Wednesday, May 25, 2011, at 5 p.m. to 9 p.m., Santa Claran Hotel, 464 N. Riverside Drive, Española, NM.

• Thursday, May 26, 2011, at 5 p.m. to 9 p.m., Santa Fe Community College, Jemez Rooms, 6401 Richards Avenue, Santa Fe, NM.

The first half hour of each hearing will be conducted as an open house-style session with subject matter experts available to discuss the project and answer questions; the remainder of the hearing will be devoted to receiving oral and written comments.

ADDRESSES: The Draft CMRR-NF SEIS and its reference material are available for review on the NNSA NEPA Web site at: http://nnsa.energy.gov/nepa/cmrrseis. Copies of the Draft CMRR-NF SEIS are also available for review at: the Los Alamos National Laboratory, Oppenheimer Study Center, Building TA3-207, West Jemez Road, Los Alamos, New Mexico; the Office of the Northern New Mexico Citizens Advisory Board, 1660 Old Pecos Trail, Suite B, Santa Fe, New Mexico; and the Zimmerman Library, University of New Mexico, Albuquerque, New Mexico. The Draft CMRR-NF SEIS or its Summary may be obtained upon request by leaving a message on the Los Alamos Site Office (LASO) CMRR-NF SEIS Hotline at (toll free) 1-877-427-9439; or by writing to: U.S. Department of Energy, National Nuclear Security Administration, Los Alamos Site Office, 3747 West Jemez Road, TA-3 Building 1410, Los Alamos, New Mexico, 87544, Attn: Mr. John Tegtmeier, CMRR-NF SEIS Document Manager; or by facsimile ((505) 667-5948); or by e-mail at: NEPALASO@doeal.gov.

Questions or Comments concerning the Draft CMRR-NF SEIS can be submitted to the NNSA Los Alamos Site Office at the same postal and electronic addresses given above. Additionally, the LASO CMRR-NF SEIS Hotline will have instructions on how to record comments. Please mark all envelopes, faxes and e-mail: “Draft CMRR-NF SEIS Comments”.

For general information about the DOE NEPA process, please contact: Ms. Carol Borgstrom, Director, Office of NEPA Policy and Compliance (GC-54), U.S. Department of Energy, 1000 Independence Avenue SW., Washington, DC 20585, (202) 586-4600, or leave a message at 1-800-472-2756. Additional information regarding DOE NEPA activities and access to many of DOE's NEPA documents are available on the Internet through the DOE NEPA Web site at http://nepa.energy.gov.

SUPPLEMENTARY INFORMATION: The NNSA has prepared the Draft CMRR SEIS in accordance with the National Environmental Policy Act (NEPA), the Council on Environmental Quality (CEQ) regulations that implement the procedural provisions of NEPA (40 CFR parts 1500-1508), and DOE regulations implementing NEPA (10 CFR 1021). These regulations require the preparation of a supplement to an environmental impact statement (EIS) when there are substantial changes to a proposal or when there or significant new circumstances or information relevant to environmental concerns. An agency may also supplement an EIS to further the purposes of NEPA.

Background. LANL is located in north-central New Mexico, 60 miles north-northeast of Albuquerque, 25 miles northwest of Santa Fe, and 20 miles southwest of Española in Los Alamos and Santa Fe Counties. It is located between the Jemez Mountains to the west and the Sangre de Cristo Mountains and Rio Grande to the east. LANL occupies an area of about 40 square miles (104 square kilometers). It is a multidisciplinary, multipurpose institution engaged in theoretical and experimental research and development. LANL performs scientific research and development, and production mission support activities that are critical to the accomplishment of the NNSA's national security objectives as reflected in previous NEPA decisions based on the Stockpile Stewardship and Management Programmatic EIS (DOE/EIS-0236) and the Complex Transformation Supplemental Programmatic EIS (SPEIS) (DOE/EIS-0236-S4). LANL's role in NNSA mission objectives includes a wide range of scientific and technological capabilities that support nuclear materials handling, processing and fabrication; stockpile management; materials and manufacturing technologies; nonproliferation programs; research and development support for national defense and homeland security programs; and DOE waste management activities.

The CMR facility, located in TA-3 at LANL, houses unique analytical chemistry (AC) and material characterization (MC) support capabilities needed to execute NNSA mission activities. However, CMR is nearly 60 years old. A 1998 seismic study identified two small parallel faults beneath the northernmost portion of the CMR Building. The presence of these faults has given rise to operational and safety concerns related to the structural integrity of the building should a seismic event affecting LANL take place. CMR Building operations and capabilities are currently restricted in scope due to both safety and security constraints; it cannot be operated to the full extent needed to meet NNSA operational requirements. In the late 1990s, NNSA began to develop plans to relocate the CMR Building capabilities elsewhere at LANL to ensure its ability to provide AC and MC support for national security and other NNSA missions. The CMRR EIS was prepared and issued in 2003, followed by a ROD in 2004.

The RLUOB portion of the CMRR project has been completely planned and constructed at TA-55 over the past 7 years. During this same time period, project planning and design for the CMRR-NF has progressed. The CMRR-NF planning process has identified several project requirements that were not envisioned when the CMRR EIS was prepared and issued in 2003. Various facility modifications to address current DOE and NNSA nuclear facility design requirements and sustainable design principals have been identified by NNSA. Several ancillary and support project requirements in addition to those previously analyzed in the CMRR EIS have also been identified. The modifications to the proposed CMRR-NF structural design would allow the building to be operated to the full extent needed to meet NNSA objectives for the CMRR Facility.

NNSA conducted a public scoping process that began with the publication of a Notice of Intent (NOI) in the Federal Register on October 1, 2010, in which NNSA announced its intention to prepare the CMRR-NF SEIS and invited public comment on the scope of the NEPA analysis. The NOI also announced the schedule for public scoping meetings that were held on October 19, 2010, and on October 20, 2010, in White Rock and Pojoaque, New Mexico, respectively. In addition to the public meetings, the public was encouraged to provide comments via mail, e-mail, and fax. All scoping comments received were considered by NNSA in preparing the Draft CMRR SEIS.

Alternatives. The Draft CMRR-NF SEIS analyzes the following three alternatives:

No Action Alternative. The No Action Alternative (also referred to as the 2004 CMRR-NF) reflects the CMRR-NF as it was described and analyzed in the 2003 CMRR EIS and selected in the 2004 ROD (69 FR 6967) and the 2008 Complex Transformation SPEIS ROD (73 FR 77656).

This alternative also includes two additional project activities that were not included in the 2003 CMRR EIS but were analyzed in the 2008 Final Site-Wide Environmental Impact Statement for Continued Operation of Los Alamos National Laboratory, Los Alamos, New Mexico (the LANL SWEIS, DOE/EIS-0380), which analyzed the CMRR Facility as part of on-going and future LANL operations. These additional project elements are the transportation and storage of up to 150,000 cubic yards (115,000 cubic meters) per year of excavated soil and spoils from the construction site, and the installation of a new 115-kilovolt electric substation on the existing power distribution loop in TA-50. The 2004 CMRR-NF would have been constructed at TA-55, adjacent to the RLUOB. It is now known, however, that the 2004 CMRR-NF design would not be able to be constructed to meet the nuclear facility design standards required for NNSA to safely conduct the full suite of AC and MC mission work needed by NNSA and DOE. Under the No Action Alternative, the 2004 CMRR-NF would have been constructed as a two-storied building with one above ground level and one below ground level, together with connecting tunnels, material storage vaults, utility structures and trenches, security structures, parking area(s) and a variety of other support areas (such as material laydown areas, concrete batch plant, and equipment storage and parking areas). The building would have comprised about 200,000 square feet (18,600 square meters) of solid floor space, while the total amount of laboratory workspace where mission-related AC and MC operations would be performed would have been about 22,500 square feet (2,100 square meters) in size.

Modified CMRR-NF Alternative. The Modified CMRR-NF would be constructed at the same TA-55 location adjacent to the RLUOB which is identified for the No Action Alternative and would enable NNSA to safely conduct the full suite of AC and MC mission work needed by NNSA and DOE. The Modified CMRR-NF would be constructed with additional structural and reinforcing concrete and steel; additional soil excavation, soil stabilization, and foundation work would also be necessary. The building would comprise about 344,000 square feet (31,000 square meters) of useable floor space divided between four stories and a partial roof level. The total amount of laboratory workspace where mission-related AC and MC operations would be performed would be about 22,500 square feet (2,100 square meters) in size. Additionally, a set of dedicated fire suppression water storage tanks would be located within the Modified CMRR-NF building. This proposed project would differ from the 2004 CMRR-NF in that it would include facility modifications to address DOE and NNSA nuclear facility design standards including seismic safety, nuclear safety basis requirements, security needs, and sustainable design principals and would also include certain additional infrastructure enhancements and construction support activities.

The Modified CMRR-NF Alternative includes two construction options, the Deep Excavation Option and the Shallow Excavation Option. The two construction options consider excavation depths that would allow NNSA to construct the building either below or above a layer of poorly welded volcanic tuff (ash) present at the TA-55 site. The Modified CMRR Alternative is NNSA's preferred alternative; however, NNSA has not identified a preferred construction option at this time.

Continued Use of CMR Building Alternative. Under this alternative, NNSA would continue to carry out laboratory operations in the existing CMR Building at TA-3, with radiological laboratory and administrative support operations moving into the newly constructed RLUOB at TA-55. The continued operation of the CMR Building over an extended period of time would result in continued reduction of laboratory space as operations are further consolidated, or eliminated. It may also include further reductions in operations that could be identified as necessary over time based on the limited ability of the CMR Building to be safely operated and maintained in a physically prudent fashion. This alternative would not meet NNSA's need to carry out AC and MC operations at a level that would support the entire range of DOE and NNSA mission needs.

Public Hearings and Invitation to Comment. NNSA will hold three public hearings on the Draft CMRR-NF SEIS as described in this Notice under DATES. Individuals who would like to present comments orally at these hearings must register upon arrival at the hearing. Speaking time will be allotted by the hearing moderator to each individual wishing to speak so as to ensure that as many people as possible have the opportunity to speak. NNSA representatives will be available during the open house portion of these hearings to discuss the Draft CMRR-NF SEIS and the analyses in it. Following the plenary session, the public will have an opportunity to provide oral and written comments.

Following the end of the public comment period on the Draft CMRR-NF SEIS described above, the NNSA will consider and respond to the comments received during the comment period on the Draft CMRR-NF SEIS in the Final CMRR-NF SEIS, and issue the Final CMRR-NF SEIS. NNSA decision-makers will consider the environmental impact analysis presented in the Final CMRR-NF SEIS, along with other information, in making decisions related to CMRR-NF.

Signed in Washington, DC, on April 21, 2011.
Thomas P. D'Agostino,
Administrator, National Nuclear Security Administration.

[FR Doc. 2011-10406 Filed 4-28-11; 8:45 am]

BILLING CODE 6450-01-P